DEPARTMENT OF EDUCATION

[Docket No.: ED-2022-SCC-0135]

Agency Information Collection Activities; Submission to the Office of Management and Budget for Review and Approval; Comment Request; DCIA Aging and Compliance Data Requirements for Guaranty Agencies

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before February 10, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: DCIA Aging and Compliance Data Requirements for Guaranty Agencies.

OMB Control Number: 1845-0160.

Type of Review: Extension without change of a currently approved ICR.

Respondents/Affected Public: Private Sector; State, Local, and Tribal Governments.

Total Estimated Number of Annual Responses: 450.

Total Estimated Number of Annual Burden Hours: 1,188.

Abstract: The Department of Education (the Department) is requesting an extension of the currently approved Guaranty Agencies (GA) reporting requirements for Office of Management and Budget (OMB) approval. The reporting requirements include minor edits together with updated GA and FSA contacts.

The Department is required to report to the U.S. Department of the Treasury (Treasury) the status and condition of its non-tax debt portfolio in accordance with the requirements of the Debt Collection Improvement Act of 1996 (DCIA) and the Digital Accountability and Transparency Act of 2014 (DATA Act). Receivable information is reported to Treasury via the Treasury Report on Receivables and Debt Collection Activities (previously called the TROR).

The Department is unable to prepare an accurate and compliant Treasury Report based on the data it currently receives from its GAs. The continuing guidance requires the GAs to age debt according to DCIA; report the eligibility of DCIA-aged debt for referral to the Treasury Offset Program (TOP); and report compliance with Form 1099-C reporting.

The updated document is titled DCIA Aging and Compliance Data Requirements for Guaranty Agencies (the Requirements). The Department plans to issue the Requirements to the GAs in Fiscal Year 2023. The data requirements for GA's are not changing. The updated document includes minor edits together with updated GA and FSA contacts.

Dated: January 5, 2023.
Kun Mullan,
PRA Coordinator, Strategic Collections and Clearance Governance and Strategy Division, Office of Chief Data Officer, Office of Planning, Evaluation and Policy Development.

[FR Doc. 2023-00331 Filed 1-10-23; 8:45 am]

BILLING CODE 4000-01-P